RAILROAD RETIREMENT BOARD

Sunshine Act Meetings; Notice of Closed Meeting

Notice is hereby given that the Railroad Retirement Board will hold a closed meeting on June 20, 2013, beginning at 9:00 a.m. at the Board's meeting room on the 8th floor of its headquarters building, 844 North Rush Street, Chicago, Illinois 60611. The agenda for this meeting follows:

Closed meeting notice:

(1) Chief Information Officer Position

The person to contact for more information is Martha P. Rico, Secretary to the Board, Phone No. 312-751-4920.

Dated: June 3, 2013.
Martha P. Rico,
Secretary to the Board.

[FR Doc. 2013-13613 Filed 6-4-13; 4:15 pm]

BILLING CODE 7905-01-P